DEPARTMENT OF THE INTERIOR

Bureau of Land Management

[AK-933-1430-ET; F-022951]

Public Land Order No. 7509; Partial Revocation of Public Land Order No. 2020, as Amended; Alaska

AGENCY: Bureau of Land Management, Interior.

ACTION: Public land order.

SUMMARY: This order revokes a public land order insofar as it affects 0.36 acre of public land withdrawn for use by the Department of Army for the Alakanuk National Guard Site. The land is no longer needed for the purpose for which it was withdrawn. The land has been overtaken by the Alakanuk Pass of the Yukon River and is now submerged. The land will continue to be withdrawn as part of the Yukon Delta National Wildlife Refuge, as established and designated by the Alaska National Interest Lands Conservation Act of 1980.

EFFECTIVE DATE: January 29, 2002.

FOR FURTHER INFORMATION CONTACT: Robbie J. Havens, Bureau of Land Management, Alaska State Office, 222 W. 7th Avenue, No. 13, Anchorage, Alaska 99513-7599, 907-271-5049.

SUPPLEMENTARY INFORMATION: By virtue of the authority vested in the Secretary of the Interior by section 204 of the Federal Land Policy and Management Act of 1976, 43 U.S.C. 1714 (1994), it is ordered as follows:

1. Public Land Order No. 2020, as amended, which withdrew public land for the Alakanuk National Guard Site is hereby revoked insofar as it affects the following described land:

Seward Meridian

T. 30 N., R. 82 W.,

U.S. Survey No. 4092, lot 3.

The area described contains 0.36 acre.

2. The land affected by this order will remain part of and subject to the terms and conditions of the Yukon Delta National Wildlife Refuge pursuant to section 303(7) of the Alaska National Interest Lands Conservation Act, 16 U.S.C. 668(dd) (1994), and any other withdrawal or segregation of record.

Dated: January 17, 2002.
J. Steven Griles,
Deputy Secretary.

[FR Doc. 02-2158 Filed 1-28-02; 8:45 am]

BILLING CODE 4310-JA-P